SMALL BUSINESS ADMINISTRATION

Privacy Act of 1974; Revision of Privacy Act System of Records

AGENCY: U.S. Small Business Administration.

ACTION: Notice of revision of Privacy Act System of Records.

SUMMARY: SBA is correcting the document published on January 10, 2000 on page 1422 to include HUD as a system location.

DATES: Effective Date: This correction is effective February 9, 2000.

SUPPLEMENTARY INFORMATION: The System Location for Loan Case Files—SBA 075 is corrected to read as follows:

SYSTEM LOCATION:

Area Disaster Office Managers, District Directors, Branch Managers, Loan Service Center Directors (see Appendix A for addresses) and HUD.

Dated: January 13, 2000.
Mona Koppel Mitnick,
Senior Privacy Act Official.

[FR Doc. 00-1985 Filed 1-26-00; 8:45 am]

BILLING CODE 8025-01-U